DEPARTMENT OF COMMERCE

National Oceanic and Atmospheric Administration

15 CFR Part 902

50 CFR Part 300

[Docket No. 150902807-5999-02]

RIN 0648-BE99

International Fisheries; Pacific Tuna Fisheries; Vessel Register Required Information, International Maritime Organization Numbering Scheme

AGENCY: National Marine Fisheries Service (NMFS), National Oceanic and Atmospheric Administration (NOAA), Commerce.

ACTION: Final rule.

SUMMARY: NMFS is issuing regulations to implement a resolution adopted by the Inter-American Tropical Tuna Commission (IATTC) that requires U.S. vessels fishing for tuna and tuna-like species with a capacity equal to or greater than 100 gross resister tons (GRT) to have an International Maritime Organization (IMO) number. The IMO number will be included with information the United States sends to the IATTC for vessels authorized to fish for tuna and tuna-like species in the IATTC Convention Area, and will enable more effective tracking of vessels that may be engaging in illegal, unreported, and unregulated fishing.

DATES: This final rule is effective February 13, 2016.

ADDRESSES: Written comments regarding the burden-hour estimates or other aspects of the collection of information requirements contained in this final rule may be submitted to Chris Fanning, NMFS West Coast Region and by email to OIRA_Submission@omb.eop.gov. Copies of the Regulatory Impact Review (RIR) and other supporting documents are available via the Federal e-Rulemaking Portal: http://www.regulations.gov, docket NOAA-NMFS-2015-0129 or by contacting the Regional Administrator, William W. Stelle, Jr., NMFS West Coast Regional Office, 7600 Sand Point Way NE., Bldg 1, Seattle, WA 98115-0070, or by email to RegionalAdministrator.WCRHMS@noaa.gov.

FOR FURTHER INFORMATION CONTACT: Chris Fanning, NMFS, West Coast Region, 562-980-4198.

SUPPLEMENTARY INFORMATION:

Background on the Proposed and Final Rulemaking

On October 27, 2015, NMFS published a proposed rule in the Federal Register (80 FR 65683) that would revise and add regulations at 50 CFR part 300, subpart C. The purpose of the proposed rule was to implement the new regional vessel register requirements in IATTC Resolution C-14-01 (Resolution (Amended) on a Regional Vessel Register). It was available for public comment through November 27, 2015. No comments were received.

As a Contracting Party to the 1949 Convention for the Establishment of an Inter-American Tropical Tuna Commission, and a member of the IATTC, the United States is legally bound to implement decisions of the IATTC. The Tuna Conventions Act (TCA) (16 U.S.C. 951-962), as amended on November 5, 2015, by Title II of Public Law 114-81, directs the Secretary of Commerce, in consultation with the Secretary of State and, with respect to enforcement measures, the Secretary of the Department of Homeland Security, to promulgate such regulations as may be necessary to carry out the United States' international obligations under the IATTC Convention, including recommendations and decisions adopted by the IATTC. The Secretary's authority to promulgate such regulations has been delegated to NMFS. The proposed rule included background information on the TCA and the IATTC, the international obligations of the United States under the TCA, and the basis for the proposed regulations, and therefore, is not repeated here. There have been no changes from the proposed rule in this final rule.

For each of the subject fishing vessels, this final rule requires that the owner of the fishing vessel ensure that an IMO number has been issued for the vessel or apply to NMFS for an exemption from the requirement. In the event that a fishing vessel owner is unable to ensure that an IMO number is issued for the fishing vessel after following the instructions given by the designated manager of the IMO ship identification number scheme, the fishing vessel owner may request an exemption from the requirement from the West Coast Regional Administrator. Upon receipt of a request for an exemption, the West Coast Regional Administrator will assist the fishing vessel owner in requesting an IMO number. If the West Coast Regional Administrator determines that the fishing vessel owner has followed all appropriate procedures but is unable to obtain an IMO number for the fishing vessel, he or she will issue an exemption from the requirements for the vessel and its owner and notify the owner of the exemption. NMFS notes that IHS Maritime, the company that provides fishing vessels with an IMO number, is a private third party. Because of this, it is conceivable that an eligible vessel may not be able to complete the necessary steps and supply the required information, resulting in a denied vessel number request.

To minimize the burden on affected U.S. businesses, NMFS is not requiring that vessel owners report the IMO numbers associated with their vessel to NMFS. NMFS will collect that information from IHS Maritime directly and via data available from the United States Coast Guard.

Classification

The NMFS Assistant Administrator has determined that this final rule is consistent with the TCA and other applicable laws.

Executive Order 12866

This final rule has been determined to be not significant for purposes of Executive Order 12866.

Regulatory Flexibility Act

Pursuant to the Regulatory Flexibility Act, 5 U.S.C. 605(b), the Chief Counsel for Regulation of the Department of Commerce certified to the Chief Counsel for Advocacy of the Small Business Administration that this action would not have a significant economic impact on a substantial number of small entities. The factual basis for the certification was published in the proposed rule and is not repeated here. No comments were received regarding this certification. As a result, a Final Regulatory Flexibility Analysis was not required and none was prepared.

Paperwork Reduction Act (PRA) Collection of Information

This action contains a collection-of-information requirement subject to PRA, which has been approved by the Office of Management and Budget (OMB) under OMB Control Number 0648-0387. A request for revision to account for the additional information that would be required pursuant to this rule is under OMB review. Public reporting burden for obtaining an IMO number, or for making an IMO exemption request are each estimated to average 30 minutes per response, including the time for reviewing instructions, searching existing data sources, gathering and maintaining the data needed, and completing and reviewing the collection of information. Send comments regarding this burden estimate, or any other aspect of this data collection, including suggestions for reducing the burden, to NMFS (see ADDRESSES) and to Office of Information and Regulatory Affairs (OIRA_Submission@omb.eop.gov or fax to 202-395-7285).

Notwithstanding any other provision of the law, no person is required to respond to, nor shall any person be subject to a penalty for failure to comply with, a collection of information subject to the requirements of the PRA, unless that collection of information displays a currently valid OMB Control Number. All currently approved NOAA collections of information may be viewed at: http://www.cio.noaa.gov/services_programs/prasubs.html.

List of Subjects

15 CFR Part 902

Reporting and recordkeeping requirements.

50 CFR Part 300

Administrative practice and procedure, Fish, Fisheries, Fishing, Marine resources, Vessels, Reporting and recordkeeping requirements, Treaties.

Dated: January 8, 2016.
Samuel D. Rauch III,
Deputy Assistant Administrator for Regulatory Programs, National Marine Fisheries Service.

For the reasons set out in the preamble, 15 CFR part 902 and 50 CFR part 300 are amended as follows:

Title 15—Commerce and Foreign Trade

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, in the table in paragraph (b), under the entry “50 CFR”, add an entry for “300.22(b)(3)” in alphanumeric order to read as follows:

§ 902.1 OMB control numbers assigned pursuant to the Paperwork Reduction Act.

* * * * *

(b) * * *

CFR part or section where the information collection requirement is located | Current OMB control number (all numbers begin with 0648-)
* * * * *
50 CFR:
* * * * *
300.22(b)(3) | -0387
* * * * *

Title 50—Wildlife and Fisheries

PART 300—INTERNATIONAL FISHERIES REGULATIONS

Subpart C—Eastern Pacific Tuna Fisheries

3. The authority citation for 50 CFR part 300, subpart C, continues to read as follows:

Authority: 16 U.S.C. 951 et seq.

4. In § 300.22, revise paragraph (b)(3) to read as follows:

§ 300.22 Eastern Pacific fisheries recordkeeping and written reports.

* * * * *

(b) * * *

(3) Vessel information. (i) Information on each commercial fishing vessel or CPFV authorized to use purse seine, longline, drift gillnet, harpoon, troll, rod and reel, or pole and line fishing gear to fish for tuna and tuna-like species in the Convention Area for sale shall be collected by the Regional Administrator to conform to IATTC resolutions governing the Vessel Register. This information initially includes, but is not limited to, the vessel name and registration number; the name and business address of the owner(s) and managing owner(s); a photograph of the vessel with the registration number legible; previous vessel name(s) and previous flag (if known and if any); port of registry; International Radio Call Sign; vessel length, beam, and moulded depth; gross tonnage, fish hold capacity in cubic meters, and carrying capacity in metric tons and cubic meters; engine horsepower; date and place where built; and type of fishing method or methods used. The required information shall be collected as part of existing information collections as described in this and other parts of the CFR.

(ii) IMO numbers. For the purpose of this section, an “IMO number” is the unique six or seven digit number issued for a vessel under the ship identification number scheme adopted by the International Maritime Organization (IMO) and managed by the entity identified by the IMO (currently IHS Maritime) and is also known as a Lloyd's Register number.

(iii) Requirement for IMO number. The owner of a fishing vessel of the United States used for commercial fishing for tuna and tuna-like species in the IATTC Convention Area shall ensure that an IMO number has been issued for the vessel if the vessel's Certificate of Documentation issued under 46 CFR part 67 indicates that the vessel's total internal volume is 100 gross register tons or greater. A vessel owner may request that an IMO number be issued for a vessel by following the instructions given by the administrator of the IMO ship identification number scheme; those instructions are currently available on the Web site of IHS Maritime.

(iv) Request for exemption. In the event that a fishing vessel owner, after following the instructions given by the designated manager of the IMO ship identification number scheme, is unable to ensure that an IMO number is issued for the fishing vessel, the fishing vessel owner may request an exemption from the requirement from the West Coast Regional Administrator. The request must be sent by mail to NMFS West Coast Region, 501 W. Ocean Blvd., Suite 4200, Long Beach, CA 90802, and must include the vessel's name, the vessel's official number, a description of the steps taken to request an IMO number, and a description of any responses from the administrator of the IMO ship identification number scheme.

(v) Exemption process. Upon receipt of a request for an exemption under paragraph (b)(3)(iv) of this section, the West Coast Regional Administrator will, to the extent he or she determines appropriate, assist the fishing vessel owner in requesting an IMO number. If the West Coast Regional Administrator determines that the fishing vessel owner has followed all appropriate procedures and yet is unable to obtain an IMO number for the fishing vessel, he or she will issue an exemption from the requirements of paragraph (b)(3)(iii) of this section for the vessel and its owner and notify the owner of the exemption. The West Coast Regional Administrator may limit the duration of the exemption. The West Coast Regional Administrator may rescind an exemption at any time. If an exemption is rescinded, the fishing vessel owner must comply with the requirements of paragraph (b)(3)(iii) of this section within 30 days of being notified of the rescission. If the ownership of a fishing vessel changes, an exemption issued to the former fishing vessel owner becomes void.

* * * * *

[FR Doc. 2016-00586 Filed 1-13-16; 8:45 am]

BILLING CODE 3510-22-P